SURFACE TRANSPORTATION BOARD

[Docket No. AB 55 (Sub-No. 750X)]

CSX Transportation, Inc.—Discontinuance of Service Exemption—in Clay, Marion, and Clinton Counties, Ill.

CSX Transportation, Inc. (CSXT), filed with the Board a petition ¹ under 49 U.S.C. 10502 for exemption from the provisions of 49 U.S.C. 10903 to discontinue rail service over an approximately 59.3-mile rail line on its Southern Region, Nashville Division, Illinois Subdivision between milepost BC 244.7, near Flora, and milepost BC 304.00, near Aviston, in Clay, Marion, and Clinton Counties, Ill. (the Line). The Line traverses United States Postal Service Zip Codes 62839, 62899, 62849, 62881, 62870, 62882, 62801, 62231, 62230, 62216, and 62219. The Line serves the stations of Kenner at milepost BC 247, Xenia at milepost BC 251, Greendale at milepost BC 258, Bannister at milepost BC 265, Salem at milepost BC 268, Odin at milepost BC 274, Shattuc at milepost BC 281, Ferrin at milepost BC 286, Carlyle at milepost BC 291, Beckemeyer at milepost BC 294, and Breese at milepost BC 299.

¹ CSXT initially filed the petition on August 31, 2016. By letter filed September 12, 2016, CSXT notified the Board that it had omitted two Zip Codes (62219 and 62231) from its notice. By letter filed September 19, 2016, CSXT notified the Board that it had republished the notice of the proposed discontinuance in a newspaper of general circulation in Marion and Clinton Counties, Ill. By letter dated October 5, 2016, CSXT stated that it omitted Zip Code 62219 only. Zip Code 66231, which was identified as omitted in CSXT's September 12 and 19 letters, was in fact included in its original petition. CSXT also filed with its October 5 letter copies of the certificates of publication and requested permission to amend Exhibit D of its petition to include the certificates. October 5, 2016 is therefore considered the filing date and the basis for all dates in this notice.

CSXT states that the Line contains the following federally granted rights-of-way, each by Legislative Act: mileposts BC 274 to BC 274.9; mileposts BC 275.2 to BC 275.6; mileposts BC 280.35 to BC 281; mileposts BC 285.5 to BC 285.9; mileposts BC 292.5 to BC 293; and mileposts BC 295.5 to BC 296. Any documentation in CSXT's possession concerning title will be made available to those requesting it.

CSXT states that continued operation of the Line will create a burden on CSXT and on interstate commerce. According to CSXT, it operated the Line until June 10, 2016, when the Line was embargoed due to the condition of the ties on the Line. CSXT states that, before the embargo, the only commodity shipped by the last active shipper on the Line, ProBuild East, LLC (ProBuild), was lumber.

According to CSXT, the traffic on the Line is not sufficient to offset maintenance costs or the costs to rehabilitate the ties on the Line. CSXT states that local traffic on the Line has fallen to two cars in 2014, two cars in 2015, and no traffic to date in 2016. Additionally, CSXT states that all overhead traffic has been rerouted. CSXT proposes to discontinue service over the Line to avoid maintenance, inspection, operating, and rehabilitation costs while leaving the Line in place to be reactivated in the event traffic reemerges on the Line.

CSXT states that there is adequate alternate transportation available which ProBuild is using, and cites motor carrier options in the area and rail loading and unloading facilities at East St. Louis, Ill. According to CSXT, it does not believe that ProBuild will oppose the proposed discontinuance of service.

The interest of railroad employees will be protected by the conditions set forth in Oregon Short Line Railroad-Abandonment Portion Goshen Branch Between Firth & Ammon, in Bingham & Bonneville Counties, Idaho, 360 I.C.C. 91 (1979).

By issuance of this notice, the Board is instituting an exemption proceeding pursuant to 49 U.S.C. 10502(b). A final decision will be issued by January 23, 2017.

Because this is a discontinuance proceeding and not an abandonment proceeding, trail use/rail banking and public use conditions are not appropriate. Because there will be environmental review during abandonment, this discontinuance does not require an environmental review.

Any offer of financial assistance (OFA) under 49 CFR 1152.27(b)(2) to subsidize continued rail service will be due no later than February 2, 2017, or 10 days after service of a decision granting the petition for exemption, whichever occurs sooner. Each offer must be accompanied by a $1,600 filing fee. See 49 CFR 1002.2(f)(25).

All filings in response to this notice must refer to Docket No. AB 55 (Sub-No. 750X) and must be sent to: (1) Surface Transportation Board, 395 E Street SW., Washington, DC 20423-0001; and (2) Louis E. Gitomer, Law Offices of Louis E. Gitomer, LLC, 600 Baltimore Ave. Suite 301, Towson, MD 21204. Replies to this petition are due on or before November 14, 2016.

Persons seeking further information concerning discontinuance procedures may contact the Board's Office of Public Assistance, Governmental Affairs, and Compliance at (202) 245-0238 or refer to the full abandonment and discontinuance regulations at 49 CFR pt. 1152. Assistance for the hearing impaired is available through the Federal Information Relay Service (FIRS) at 1-800-877-8339.

Board decisions and notices are available on our Web site at “WWW.STB.GOV.”

Decided: October 20, 2016.
By the Board, Rachel D. Campbell, Director, Office of Proceedings.
Kenyatta Clay,
Clearance Clerk.

[FR Doc. 2016-25757 Filed 10-24-16; 8:45 am]

BILLING CODE 4915-01-P